DEPARTMENT OF THE INTERIOR

National Park Service

Notice of Availability for the Record of Decision on the Final Environmental Impact Statement for the Niobrara National Scenic River General Management Plan, Nebraska

AGENCY: National Park Service, Department of the Interior.

SUMMARY: Pursuant to section 102(2)(C) of the National Environmental Policy Act of 1969, the National Park Service (NPS) announces the availability of the Record of Decision (ROD) Niobrara National Scenic River (Scenic River) General Management Plan/final Environmental Impact Statement (EIS), Scenic River. On March 26, the Midwest Regional Director approved the ROD for the project. As soon as practicable, the NPS will begin to implement the Preferred Alternative contained in the final EIS issued on February 23.

Management Alternative B develops a vision for cooperative management of the Scenic River, with the NPS providing stewardship directly and through Federal, State, and local partners on a landscape that would remain largely in private ownership. The alternative's boundary protects, as equitably as possible, the river's outstandingly remarkable scenic, recreational, geologic, fish and wildlife, and paleontological values. This alternative encompasses 23,074 acres and is within the acreage limitations of the Wild and Scenic Rivers Act.

This course of action and three alternatives were analyzed in the draft and the final EIS. The full range of foreseeable environmental consequences was assessed and appropriate mitigating measures were identified.

The ROD includes a statement of the decision made, synopses of other alternatives considered, the basis for the decision, a description of the environmentally preferable alternative, a finding on impairment of park resources and values, a listing of measures to minimize environmental harm, and an overview of public involvement in the decisionmaking process.

FOR FURTHER INFORMATION CONTACT: Superintendent, Niobrara National Scenic River, P.O. Box 591, O'Neill, Nebraska 68763, or by calling 402-336-3970. Copies of the final EIS and ROD are available upon request from the above address or may be viewed online at http://parkplanning.nps.gov/.

Dated: March 29, 2007.
Ernest Quintana,
Regional Director, Midwest Region.

[FR Doc. E7-7745 Filed 4-23-07; 8:45 am]

BILLING CODE 4312-BM-P